DEPARTMENT OF ENERGY

Federal Energy Regulatory Commission

[Docket No. PR01-10-000]

Bay Gas Storage Company, Ltd.; Notice of Petition for Rate Approval

March 26, 2001.

Take notice that on March 9, 2001, Bay Gas Storage Company, Ltd. (Bay Gas) filed, pursuant to section 284.123(b)(2) of the Commission's Regulations, a petition for rate approval requesting that the Commission approve as fair and equitable a maximum rate of $1.7282 per MMBtu for firm transportation service, and a maximum rate of $0.0568 per MMBtu for interruptible transportation service, on Bay Gas's new Whistler spur under section 311 of the Natural Gas Policy Act of 1987.

Bay Gas states that it does not choose to make an election under section 284.123(b)(1) and instead applies for Commission approval of the transportation-only rates proposed here. 18 CFR 284.123(b)(2).

Pursuant to Section 284.123(b)(2), if the Commission does not act within 150 days of the filing date, these rates will be deemed to be fair and equitable and not in excess of an amount which interstate pipelines would be permitted to charge for providing similar transportation service. The Commission may, prior to the expiration of the 150-day period, extend the time for action or institute a proceeding to afford interested parties an opportunity for written comments and for the oral presentation of views, data and arguments.

Any person desiring to participate in this rate proceeding must file a motion to intervene or protest with the Federal Energy Regulatory Commission, 888 First Street, NE., Washington, DC 20426, in accordance with rules 211 and 214 of the Commission's Rules of Practice and Procedure (18 CFR 385.211 and 385.214). All motions must be filed with the Secretary of the Commission on or before April 10, 2001. This petition for rate approval is on file with the Commission and is available for public inspection. This filing may be viewed on the web at http://www.ferc.fed.us/online/rims.htm (call 202-208-2222 for assistance). Comments, protests, and interventions may be filed electronically via the internet in lieu of paper. See, 18 CFR 385.200(a)(1)(iii) and the instruction on the Commission's web site at http://www.ferc.fed.us.efi/doorbell.htm.

David P. Boergers,
Secretary.

[FR Doc. 01-7853 Filed 3-29-01; 8:45 am]

BILLING CODE 6717-01-M